DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Pretesting of Substance Abuse Prevention and Treatment and Mental Health Services Communication Messages—(OMB No. 0930-0196)—Extension

As the federal agency responsible for developing and disseminating authoritative knowledge about substance abuse prevention, addiction treatment, and mental health services and for mobilizing consumer support and increasing public understanding to overcome the stigma attached to addiction and mental illness, SAMHSA is responsible for development and dissemination of a wide range of education and information materials for both the general public and the professional communities. This submission is for generic approval and will provide for formative and qualitative evaluation activities to (1) Assess audience knowledge, attitudes, behavior and other characteristics for the planning and development of messages, communication strategies and public information programs; and (2) test these messages, strategies and program components in developmental form to assess audience comprehension, reactions, and perceptions. Information obtained from testing can then be used to improve materials and strategies while revisions are still affordable and possible. The annual burden associated with these activities is summarized below.

Activity | Number of respondents | Responses/ respondent | Hours per response | Total hours
Individual In-depth Interviews:
General Public | 400 | 1 | .75 | 300
Service Providers | 200 | 1 | .75 | 150
Focus Group Interviews:
General Public | 3,000 | 1 | 1.5 | 4,500
Service Providers | 1,500 | 1 | 1.5 | 2,250
Telephone Interviews:
General Public | 335 | 1 | .08 | 27
Service Providers | 165 | 1 | .08 | 13
Self-Administered Questionnaires:
General Public | 2,680 | 1 | .25 | 670
Service Providers | 1,320 | 1 | .25 | 330
Gatekeeper Reviews:
General Public | 1,200 | 1 | .50 | 600
Service Providers | 900 | 1 | .50 | 450
Total | 11,700 |  |  | 9,290

Send comments to Summer King, SAMHSA Reports Clearance Officer, 5600 Fishers Lane, Room 15E57-B, Rockville, Maryland 20857, OR email a copy to summer.king@samhsa.hhs.gov. Written comments should be received by August 22, 2016.

Summer King,
Statistician.

[FR Doc. 2016-14710 Filed 6-21-16; 8:45 am]

BILLING CODE 4162-20-P